SOCIAL SECURITY ADMINISTRATION

[Docket No. SSA 2012-0042]

Assigning New Social Security Numbers (SSN) for Children Age 13 and Under

AGENCY: Social Security Administration (SSA)

ACTION: Notice; Request for Comments.

SUMMARY: We are considering changing our policy about assigning new SSNs to children age 13 and under. We are requesting information from the public to ensure that any policy changes we adopt appropriately address the unique issues associated with the misuse of an SSN for a child age 13 and under.

DATES: To ensure that your comments are considered, we must receive them no later than April 12, 2013.

ADDRESSES: You may submit written comments by any one of three methods—Internet, fax or mail. Do not submit the same comments multiple times or by more than one method. Regardless of which method you choose, please state that your comments refer to Docket No. SSA-2012-0042, so that we may associate your comments with the correct activity.

Caution: You should be careful to include in your comments only information that you wish to make publicly available. We strongly urge you not to include in your comments any personal information, such as SSNs or medical information.

1. Internet: We strongly recommend this method for submitting your comments. Visit the Federal eRulemaking portal at http://www.regulations.gov. Use the Search function of the Web page to find docket number SSA-2012-0042, and then submit your comment. Once you submit your comment, the system will issue you a tracking number to confirm your submission. You will not be able to view your comment immediately as we must manually post each comment. It may take up to a week for your comment to be viewable.

2. Fax: Fax comments to (410) 966-2830.

3. Mail: Mail your comments to the Office of Regulations and Reports Clearance, Social Security Administration, 107 Altmeyer Building, 6401 Security Boulevard, Baltimore, Maryland 21235-6401.

Comments are available for public viewing on the Federal eRulemaking portal at http://www.regulations.gov, or in person, during regular business hours, by arranging with the contact person identified below.

FOR FURTHER INFORMATION CONTACT: Arthur LaVeck, Office of Income Security Programs, Social Security Administration, 6401 Security Boulevard, Baltimore, Maryland 21235-6401, 410-966-5665.

SUPPLEMENTARY INFORMATION:

Background

We began assigning nine-digit SSNs in 1936, and under normal procedures, we assign only one SSN to an individual during his or her lifetime. Assigning a single unique number to each individual allows us to ensure timely and accurate payment of retirement, disability, and other benefits to workers and their families. It also helps ensure the integrity of our record keeping.

We do not disclose SSNs except when authorized by law, and we keep number holders' records confidential. In addition, we have removed the SSN from many of our notices, greatly expanded electronic SSN verification services for employers, and provided public information on how to protect SSNs from inadvertent disclosure and misuse.

Despite our goal of limiting each person to a single SSN, we recognize that there are some situations where third-party misuse of an SSN may make it helpful to assign an individual a new SSN.

Current Policy

Under our current policy, if we have evidence that a third party has improperly used an adult's or child's SSN, the number holder was not at fault, and the number holder was recently disadvantaged by the misuse, we may assign a new SSN. However, before we issue a new SSN, we advise the number holder that a new number will not necessarily solve all his or her problems related to the SSN misuse. Because SSNs are widely used by other governmental agencies (such as the Internal Revenue Service and State motor vehicle agencies) and private businesses (such as banks and credit reporting companies), when we assign a new SSN, these institutions will still have records under the individual's old number. Additionally, because credit-reporting companies use the SSN to help verify credit records, using a new SSN will not guarantee a fresh start for the number holder, particularly if the number holder's other personal information (such as his or her name and address) remains the same.

What policy changes are we considering?

We are considering a new policy for issuing a new SSN for children age 13 and under because of factors that apply only to children. First, because children age 13 and under generally have not worked, attempted to establish credit, or secured drivers licenses, their SSNs are not likely to be in widespread use among public and private entities. Second, misuse of a child's SSN may go undiscovered for many months or even years because children age 13 and under generally do not work or drive and have not attempted to establish credit. For these reasons, assigning a second SSN in these cases is less problematic for the person than it is for an individual with a work history, a driving record, and a credit history.

Under the policy we are considering, we would issue a new SSN for a child age 13 and under when:

• The child's Social Security card has been stolen while in transit from us to the child's address and the child's parent or guardian demonstrates to the Commissioner of Social Security that the child's Social Security card has been stolen in transit from SSA to the child's address.

• The child's SSN has been incorrectly disclosed through our publicly available Death Master File (DMF).

We receive approximately 2.5 million death reports each year from many sources, including family members, funeral homes, State and other Federal agencies, postal authorities, and financial institutions. Federal law permits us to disclose an extract of this death information. This extract, commonly referred to as the public DMF, includes the deceased individual's SSN, first name, middle name, surname, date of birth, and date of death. Unfortunately, in a small number of cases—less than one-half of one percent—we incorrectly include SSNs of living individuals in the public DMF; however, we remove that data from the public DMF as soon as possible.

• A third party has misused the child's SSN.

Some examples of misuse are a third party's application for credit using the child's SSN, use of the child's SSN to work, improper inclusion of the child's SSN on a tax return, or furnishing the child's SSN to a police officer when stopped for a traffic violation.

We would no longer require proof that the number holder was disadvantaged due to the misuse in any of the three situations outlined above.

Request for Comments

We are requesting comments concerning the proposed policy change for assigning new SSNs to children age 13 and under. We ask that, in preparing comments, you address questions such as:

1. Is age 13 the appropriate cut off for application of the revised policy?

2. Are the circumstances that we propose for assigning a new SSN to children age 13 and under appropriate?

3. Are there other circumstances that would warrant assigning a new SSN to children age 13 and under?

Please see the information under ADDRESSES earlier in this document for methods to give us your comments. We will not respond to your comments, but we will consider them as we review our policies and instructions to determine if we should revise or update them.

Dated: February 5, 2013.
Michael J. Astrue,
Commissioner of Social Security.

[FR Doc. 2013-03043 Filed 2-8-13; 8:45 am]

BILLING CODE 4191-02-P